DEPARTMENT OF THE INTERIOR

Bureau of Indian Affairs

Indian Gaming

AGENCY: Bureau of Indian Affairs, Interior.

ACTION: Notice of approved Class III Gaming Compact.

SUMMARY: This notice publishes the extension to an approved Class III Gaming Compact between the State of Nevada and the Pyramid Lake Paiute Tribe. Under the Indian Gaming Regulatory Act of 1988, the Secretary of the Interior is required to publish notice in the Federal Register approved Tribal-State compacts for the purpose of engaging in Class III gaming activities on Indian lands.

EFFECTIVE DATE: April 30, 2004.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA) Public Law 100-497, 25 U.S.C. 2710, the Secretary of the Interior shall publish in the Federal Register notice of approved Tribal-State compacts for the purpose of engaging in Class III gaming activities on Indian lands. On January 6, 1988, the Assistant Secretary—Indian Affairs, Department of the Interior, through his delegated authority, approved the Compact between the Pyramid Lake Paiute Tribe and the State of Nevada, which was executed on August 4, 1997. Article X of that compact allows for automatic extensions of up to 20 years upon the mutual written consent of the parties.

On August 15, 2003, the Pyramid Lake Paiute Tribe and the State of Nevada agreed to a 1-year extension of the existing compact. This 1-year period will extend the compact until January 1, 2005. The Assistant Secretary—Indian Affairs, Department of the Interior, through his delegated authority, is publishing notice that the Extension to the Tribal-State Compact for Class III gaming between the State of Nevada and the Pyramid Lake Paiute Tribe is in effect.

Dated: April 14, 2004.
Aurene M. Martin,
Principal Deputy Assistant Secretary—Indian Affairs.

[FR Doc. 04-9887 Filed 4-29-04; 8:45 am]

BILLING CODE 4310-4N-P